DEPARTMENT OF TRANSPORTATION

National Highway Traffic Safety Administration

[Docket No. NHTSA—2012-0084]

National Automotive Sampling System

AGENCY: National Highway Traffic Safety Administration (NHTSA), Department of the Transportation (DOT).

ACTION: Notice of public listening session.

SUMMARY: NHTSA has reached the next phase of the design for the modernization of National Automotive Sampling System (NASS) or Data Modernization (DataMod). NHTSA announces that it will hold a public listening session to solicit information and comments on: (a) Adding, deleting or changing the current NASS data elements for DataMod, and; (b) recommendations for changing or improving the NASS data collection methodology. NHTSA will give a brief status of the project and then open the floor to the public. The listening session will also be accessible through the Internet.

DATES: The listening session will be held on July 18, 2013, from 1:00-5:00 p.m., EDT. If all participants have had an opportunity to comment, the session may conclude earlier.

ADDRESSES: The listening session will be held at the U. S. Department of Transportation, 1200 New Jersey Avenue, SE., Washington, DC 20590, in the Oklahoma City Conference Room. In addition to attending the session in person, the Agency offers several ways to provide comments as enumerated below.

• Internet Access Via the Web: NHTSA will post specific information on how to participate via the Internet on the NHTSA Web site at www.nhtsa.gov one week before the listening session.

You may submit comments bearing the Federal Docket Management System Docket ID NHTSA-2012-0084 using any of the following methods:

• Federal eRulemaking Portal: Go to http://www.regulations.gov. Follow the online instructions for submitting comments.

• Mail: Send comments to: Docket Management Facility, U.S. Department of Transportation, 1200 New Jersey Avenue SE., West Building, Room W12-140, Washington, DC 20590.

• Fax: Written comments may be faxed to (202) 493-2251

• Hand Delivery: If you plan to submit written comments by hand or courier, please do so at 1200 New Jersey Avenue SE., West Building Ground Floor, Room W12-140, Washington, DC between 9 a.m. and 5 p.m. Eastern Time, Monday through Friday, except federal holidays.

Whichever way you submit your comments, please remember to mention the agency and the docket number of this document within your correspondence. Please note that all comments received will be posted without change to http://www.regulations.gov, including any personal information provided. Please see the “Privacy Act” heading below.

Privacy Act: Anyone is able to search the electronic form of all comments received into any of our dockets by the name of the individual submitting the comments (or signing the comments, if submitted on behalf of an association, business, labor union, etc.). You may review DOT's complete Privacy Act statement in the Federal Register published on April 11, 2000 (65 FR 19477-78) or you may visit http://DocketInfo.dot.gov.

FOR FURTHER INFORMATION CONTACT: For information concerning the listening session or access via the Internet, please contact Delia Lopez, National Center for Statistics and Analysis, NHTSA (telephone: 202-366-5365 or email: delia.lopez@dot.gov). Registration is available at www.nhtsa.gov.

If you need sign language assistance to participate in this listening session, contact Ms. Lopez by July 3, 2013, to allow us to arrange for such services. NHTSA cannot guarantee that interpreter services requested on short notice will be provided.

SUPPLEMENTARY INFORMATION: The listening session will allow interested persons to present comments and propose future data elements to be collected by NASS excluding comments already submitted. All comments and discussions will be transcribed and placed in docket NHTSA-2012-0084 for NHTSA's consideration.

I. Background

NHTSA is undertaking a modernization effort to upgrade the National Automotive Sampling System (NASS) by improving the information technology (IT) infrastructure, updating and prioritizing the data collected, reselecting the sample sites and sample sizes, re-examining the electronic formats in which the crash data files are made available to the public, and improving data collection methods and quality control procedures, among other activities. This project is called the Data Modernization (DataMod) Project.

NASS collects crash data on a nationally representative sample of police-reported motor vehicle traffic crashes and related injuries. NASS data are used by Federal, State, and local government agencies, as well as by industry and academia in the U.S. and around the world. The data enable stakeholders to make informed regulatory, program, and policy decisions regarding vehicle design and traffic safety. The NASS system currently has two components: the General Estimates System (GES) and the Crashworthiness Data System (CDS). While the GES captures information on all types of traffic crashes, the CDS focuses on more severe crashes involving passenger vehicles to better document the consequences to vehicles and occupants in crashes—i.e., crashworthiness.

NASS was originally designed in the 1970's, and has not received significant revision since that time with regard to the type of data collected and the sites for data collection. Over the last three decades NHTSA understands that the scope of traffic safety studies has expanded and the data needs of the transportation community have increased and significantly changed. In addition, the distribution of the U.S. population has shifted over the past 23 years, and there is a growing need for the collection of information that addresses issues of crash avoidance. Recognizing the importance of this data, NHTSA is pursuing the DataMod Project to enhance the quality of the data collected and the overall effectiveness of the NASS.

This modernization effort includes the following major objectives:

• Propose data elements for the crash investigation portion of NASS that are responsive to the current and future needs of both internal and external data users;

• Develop a detailed, executable sample design and data collection protocol blueprint that meets data needs in an effective and efficient manner while still maintaining national representativeness;

• Modernize the information technology (IT) infrastructure;

• Re-examine the electronic formats in which the crash data files are made available to the public; and

• Examine using new data collection methods and quality control procedures to improve data quality and timeliness.

II. Comments From Stakeholders

On June 21, 2012, NHTSA published a Federal Register notice (77 FR 37471-72) soliciting comments from NASS users on the current data elements, proposed new data elements, suggestions on the research design and data collection protocol for the modernized study, and any other ideas NHTSA should consider to improve crash data.

Twenty-five organizations and individuals submitted comments in response to the Federal Register Notice. Most of the comments came from research organizations and automobile manufacturers and their associations. The 25 organizations and individuals provided 313 specific comments. As expected, most of the specific comments were related to NASS CDS (292 or 93%). The remaining comments were related to GES, the Fatality Analysis Reporting System (FARS), or multiple NHTSA crash data bases.

Specific comments fell into common general topic areas. The most common topic areas were scene, followed by sample design, data elements, and vehicle reconstruction. Once the comments were grouped into topic areas, it was clear that many of the comments overlapped or were the same. At least two or more associations and individuals requested the same information in the new system. For example, although we received 41 specific comments on scene information, many of the comments were similar. In fact, if you group by unique comments there are only 18 unique comments related to scene. Seven commenters wanted latitude and longitude data added to both GES and CDS in the new system.

Anyone who responded previously to the previous Federal Register Notice requesting comments does not need to resubmit their comments. To see the comments that were submitted, please go to http://www.regulations.gov and search for docket number, NHTSA-2012-0084.

III. Meeting Participation and Information NHTSA Seeks From the Public

The listening session is open to the public. NHTSA will open the meeting by providing a brief presentation on the current status. The status update will include an overall description of the Data Mod Project and project timing, provide information on the new sample design and describe the information technology implementation. NHTSA has reached the next phase of the design for the modernization of NASS. In this phase we need to finalize the new data elements. Current NASS data elements, coding instructions, and descriptive materials can be reviewed on NHTSA's Web site at: http://nhtsa.gov/NASS.

Speakers' remarks will be limited to 10 minutes each. Pre-registration is required for in-person and webinar participation. Register at www.nhtsa.gov by July 11, 2013. For questions contact Delia Lopez at delia.lopez@dot.gov or 202-366-5365. In-person participants need to bring photo identification and should plan to arrive 45 minutes before the session starts to allow time to clear building security. The public may submit material to the NHTSA staff at the session for inclusion in the public docket, NHTSA-2012-0084.

IV. Alternative Access Via the Internet During the Listening Session on July 18, 2013

NHTSA will also provide access via the Internet for participants. The telephone access number and other information on how to participate via the Internet will be posted on the NHTSA Web site at www.nhsta.gov one week before the listening session. Internet participants must register at www.nhtsa.gov by July 11, 2013.

Terry Shelton,
Associate Administrator, National Center For Statistics and Analysis.

[FR Doc. 2013-14363 Filed 6-17-13; 8:45 am]

BILLING CODE 4910-59-P